POSTAL SERVICE

39 CFR Part 111

Domestic Competitive Products Pricing and Mailing Standards Changes

AGENCY: Postal Service™.

ACTION: Final rule.

SUMMARY: The Postal Service is amending Mailing Standards of the United States Postal Service, Domestic Mail Manual (DMM®), to reflect changes to prices for competitive products. There are no mailing standards changes scheduled for competitive products.

DATES: Effective: January 21, 2018.

FOR FURTHER INFORMATION CONTACT: Karen Key at (202) 268-7492, or Garry Rodriguez at (202) 268-7281.

SUPPLEMENTARY INFORMATION: This final rule describes new prices for competitive products, by class of mail, established by the Governors of the United States Postal Service®. New prices are available under Docket Number CP2018-8 on the Postal Regulatory Commission's (PRC) Web site at http://www.prc.gov, and also located on the Postal Explorer® Web site at http://pe.usps.com.

The Postal Service will revise Mailing Standards of the United States Postal Service, Domestic Mail Manual (DMM), to reflect changes to prices for the following competitive products:

• Priority Mail Express®.

• Priority Mail®.

• First-Class Package Service—Retail®.

• First-Class Package Service—Commercial®.

• Parcel Select®.

• USPS Retail Ground®.

• Extra Services.

• Return Services.

• Mailer Services.

• Recipient Services.

Competitive product prices are identified by product as follows:

Priority Mail Express

Prices

Overall, Priority Mail Express prices will increase 3.9 percent. Priority Mail Express will continue to offer zoned and Flat Rate Retail, Commercial Base™, and Commercial Plus™ pricing.

Retail prices will increase an average of 3.9 percent. The Flat Rate Envelope price will increase to $24.70, the Legal Flat Rate Envelope will increase to $24.90, and the Padded Flat Rate Envelope will increase to $25.40.

Commercial Base prices offer lower prices to customers who use authorized postage payment methods. Commercial Base prices will increase an average of 3.7 percent. Commercial Base pricing offers an average 11.3 percent discount off retail prices.

Commercial Plus prices were matched to the Commercial Base prices in the 2016 price change and will continue to be matched in 2018.

Priority Mail

Prices

Overall, Priority Mail prices will increase 3.9 percent. Priority Mail will continue to offer zoned and Flat Rate Retail, Commercial Base, and Commercial Plus pricing.

Retail prices will increase an average of 0.8 percent. The Flat Rate Envelope price will increase to $6.70, the Legal Flat Rate Envelope will increase to $7.00, and the Padded Flat Rate Envelope will increase to $7.25. The Small Flat Rate Box price will increase to $7.20 and the Medium Flat Rate Boxes will increase to $13.65. The Large Flat Rate Box will increase to $18.90, and the APO/FPO/DPO Large Flat Rate Box will increase to $17.40.

Commercial Base prices offer lower prices to customers who use authorized postage payment methods. Commercial Base prices will increase an average of 6.2 percent. Commercial Base pricing offers an average 9.4 percent discount off retail prices.

The Commercial Plus price category offers price incentives to large volume customers who have a customer commitment agreement with USPS. Commercial Plus prices will increase an average of 6.1 percent. Commercial Plus pricing offers an average 12.7 percent discount off retail prices.

First-Class Package Service—Retail

Prices

Overall, First-Class Package Service—Retail prices will increase 14.5 percent.

First-Class Package Service—Commercial

Prices

Overall, First-Class Package Service—Commercial prices will increase 3.9 percent.

Parcel Select

Prices

Parcel Select Destination Entry and Ground prices will increase an average of 4.9 percent. The prices for Parcel Select Lightweight® (PSLW) will increase an average of 7.0 percent.

USPS Retail Ground

Overall, USPS Retail Ground prices will increase an average of 3.9 percent.

Extra Services

Adult Signature Service

Adult Signature Required and Adult Signature Restricted Delivery service prices are increasing 3.4 and 3.3 percent, respectively. The price for Adult Signature Required will increase to $6.10, and Adult Signature Restricted Delivery will increase to $6.35.

Return Services

Parcel Return Service

Overall, Parcel Return Service (PRS) prices will increase an average of 4.9 percent.

Return Sectional Center Facility (RSCF) prices will increase an average of 5.2 percent, and Return Delivery Unit (RDU) prices will increase an average of 4.6 percent.

Mailer Services

Pickup on Demand Service

The Pickup on Demand® service fee will continue to be $22.00.

Recipient Services

Post Office Box Service

The competitive Post Office Box™ service prices will increase an average of 6.5 percent within the existing price ranges.

Premium Forwarding Service

Premium Forwarding Service® (PFS®) prices will increase an average of 3.9 percent. The enrollment fee paid at the retail counter for PFS-Residential will increase to $20.10, and the PFS-Residential and PFS-Commercial enrollment fee paid online will increase to $18.45 per application. The price of the weekly shipment charge for PFS-Residential will increase to $20.10.

USPS Package Intercept

The USPS Package Intercept™ fee will increase 3.9 percent to $13.45.

Other

Address Enhancement Service

Address Enhancement Service competitive product prices will be increasing between 2.7 and 4.2 percent.

Zone Charts Revision: Priority Mail to APO/FPO/DPO Processing at Chicago ISC

The Postal Service will revise all zone charts to reflect that Priority Mail to APO/FPO/DPO destinations will be processed only at the Chicago ISC. Additional information can be found in the New Mailing Standards for Domestic Mailing Services Products, Federal Register Notice.

Resources

The Postal Service provides additional resources to assist customers with this price change for competitive products. These tools include price lists, downloadable price files, and Federal Register Notices, which may be found on the Postal Explorer® Web site at http://pe.usps.com.

List of Subjects in 39 CFR Part 111

Administrative practice and procedure, Postal service.

The Postal Service adopts the following changes to Mailing Standards of the United States Postal Service, Domestic Mail Manual (DMM), incorporated by reference in the Code of Federal Regulations. See 39 CFR 111.1.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

Notice 123 (Price List)

[Revise prices as applicable.]

* * * * *

We will publish an appropriate amendment to 39 CFR part 111 to reflect these changes.

Stanley F. Mires,
Attorney, Federal Compliance.

[FR Doc. 2017-22186 Filed 10-12-17; 8:45 am]

BILLING CODE 7710-12-P